INTERNATIONAL TRADE COMMISSION

[Investigation No. 332-522]

Advice Concerning Possible Modifications to the U.S. Generalized System of Preferences, 2010 Review of Competitive Need Limitation Waivers

AGENCY: United States International Trade Commission.

ACTION: Institution of investigation and scheduling of hearing.

SUMMARY: Following receipt of a request on December 22, 2010, from the United States Trade Representative (USTR) under section 332(g) of the Tariff Act of 1930 (19 U.S.C. 1332(g)), the U.S. International Trade Commission (Commission) instituted investigation No. 332-522, Advice Concerning Possible Modifications to the U.S. Generalized System of Preferences, 2010 Review of Competitive Need Limitation Waivers.

DATES:

January 28, 2011: Deadline for filing requests to appear at the public hearing.

February 4, 2011: Deadline for filing pre-hearing briefs and statements.

February 17, 2011: Public hearing.

February 24, 2011: Deadline for filing post-hearing briefs and statements and other written submissions.

April 11, 2011: Transmittal of classified report to the United States Trade Representative.

ADDRESSES: All Commission offices, including the Commission's hearing rooms, are located in the United States International Trade Commission Building, 500 E Street, SW., Washington, DC. All written submissions should be addressed to the Secretary, United States International Trade Commission, 500 E Street, SW., Washington, DC 20436. The public record for this investigation may be viewed on the Commission's electronic docket (EDIS) at http://www.usitc.gov/secretary/edis.htm.

FOR FURTHER INFORMATION CONTACT: Information specific to this investigation may be obtained from Shannon Gaffney, Project Leader, Office of Industries (202-205-3316 or shannon.gaffney@usitc.gov) or Alberto Goetzl, Deputy Project Leader, Office of Industries (202-205-3323 or alberto.goetzl@usitc.gov). For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The Commission, as requested by the USTR under the authority delegated by the President, pursuant to section 332(g) of the Tariff Act of 1930 and in accordance with section 503(d)(1)(A) of the Trade Act of 1974 (1974 Act) (19 U.S.C. 2463(d)(1)(A)), will provide advice on whether any industry in the United States is likely to be adversely affected by a waiver of the competitive need limitations specified in section 503(c)(2)(A) of the 1974 Act for the following countries and articles provided for in the noted subheadings of the Harmonized Tariff System (HTS): Brazil for HTS subheading 2922.41.00 (lysine and esters); Sri Lanka for HTS subheading 4011.93.80 (pneumatic tires); Thailand for HTS subheading 4015.19.10 (rubber gloves); and Argentina for HTS subheading 7202.99.20 (calcium silicon ferroalloys). As requested, the Commission will also provide advice as to the probable economic effect on U.S. industries producing like or directly competitive articles, on total U.S. imports, and on U.S. consumers, by a waiver of such limitations. In addition, as requested, the Commission will provide information as to whether like or directly competitive products were being produced in the United States on January 1, 1995. As requested, for purposes of section 503(c)(2)(A)(i)(I) of the 1974 Act, the Commission will use the dollar value limit of $145,000,000.

As requested by the USTR, the Commission will provide its advice by April 11, 2011. The USTR indicated that the portions of the Commission's report and its working papers which relate to the Commission's advice will be classified as “confidential,” and that USTR considers the Commission's report to be an inter-agency memorandum that will contain pre-decisional advice and be subject to the deliberative process privilege.

Public Hearing: A public hearing in connection with this investigation will be held at the U.S. International Trade Commission Building, 500 E Street, SW., Washington, DC, beginning at 9:30 a.m. on February 17, 2011. Requests to appear at the public hearing should be filed with the Secretary no later than 5:15 p.m. on January 28, 2011. Any pre-hearing briefs and other statements relating to the hearing should be filed with the Secretary not later than 5:15 p.m. on February 4, 2011, and all post-hearing briefs and statements and any other written submissions should be filed with the Secretary not later than 5:15 p.m. on February 24, 2011. All requests to appear and pre- and post-hearing briefs and statements must be filed in accordance with the requirements in the “Written Submissions” section below. In the event that, as of the close of business on January 28, 2011, no witnesses are scheduled to appear at the hearing, the hearing will be canceled. Persons interested in learning whether the hearing has been canceled should call the Office of the Secretary after January 28, 2011, at 202-205-2000.

Written Submissions: In lieu of or in addition to participating in the hearing, interested parties are invited to file written submissions concerning this investigation. All such submissions should be addressed to the Secretary and should be received not later than 5:15 p.m. on February 24, 2011 (see earlier dates for filing requests to appear and for filing pre-hearing briefs and statements). All written submissions must conform with the provisions of section 201.8 of the Commission's Rules of Practice and Procedure (19 CFR 201.8). Section 201.8 requires that a signed original (or a copy so designated) and fourteen (14) copies of each document be filed. In the event that confidential treatment of a document is requested, at least four (4) additional copies must be filed in which the confidential information must be deleted (see the following paragraph for further information regarding confidential business information). The Commission's rules authorize filing submissions with the Secretary by facsimile or electronic means only to the extent permitted by section 201.8 of the rules (see Handbook for Electronic Filing Procedures, http://www.usitc.gov/secretary/fed_reg_notices/rules/documents/handbook_on_electronic_filing.pdf). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties. The Commission may include some or all of the confidential business information submitted in the course of the investigation in the report it sends to the USTR.

As requested by the USTR, the Commission will publish a public version of the report, which will exclude portions of the report that the USTR has classified as well as any confidential business information.

Issued: January 7, 2011.
By order of the Commission.
Marilyn R. Abbott,
Secretary to the Commission.

[FR Doc. 2011-553 Filed 1-12-11; 8:45 am]

BILLING CODE 7020-02-P